DEPARTMENT OF ENERGY

Federal Energy Regulatory Commission

Combined Notice of Filings #2

Take notice that the Commission received the following electric rate filings:

Docket Numbers: ER12-787-001.

Applicants: Dogwood Energy LLC.

Description: Compliance Filing of Participation Agreement to be effective 3/29/2012.

Filed Date: 4/4/12.

Accession Number: 20120404-5039.

Comments Due: 5 p.m. ET 4/25/12.

Docket Numbers: ER12-1439-000.

Applicants: PJM Interconnection, L.L.C.

Description: First Revised Service Agreement No. 3064; Queue No. W3-145 to be effective 3/7/2012.

Filed Date: 4/4/12.

Accession Number: 20120404-5030.

Comments Due: 5 p.m. ET 4/25/12.

Docket Numbers: ER12-1440-000.

Applicants: Southern California Edison Company.

Description: Amended SGIA SERV AG SCE-TDBU SCE-GPS 2501WSanBernardino Redlands Roof Top Solar to be effective 4/5/2012.

Filed Date: 4/4/12.

Accession Number: 20120404-5044.

Comments Due: 5 p.m. ET 4/25/12.

Docket Numbers: ER12-1441-000.

Applicants: Southern California Edison Company.

Description: GIA WDAT SERV AG-SCE-TDBU SCE-PPD SPVP 47 South Bay No 5 Roof Top Solar Project to be effective 4/5/2012.

Filed Date: 4/4/12.

Accession Number: 20120404-5046.

Comments Due: 5 p.m. ET 4/25/12.

Docket Numbers: ER12-1442-000.

Applicants: Liberty Electric Power, LLC.

Description: Cancellation of Duplicative Record ID to be effective 12/25/2011 under ER12-1442 Filing Type: 270.

Filed Date: 4/4/12.

Accession Number: 20120404-5075.

Comments Due: 5 p.m. ET 4/25/12.

Docket Numbers: ER12-1443-000.

Applicants: Southwestern Public Service Company.

Description: Southwestern Public Service Company submits Notice of Cancellation.

Filed Date: 4/4/12.

Accession Number: 20120404-5127.

Comments Due: 5 p.m. ET 4/25/12.

Docket Numbers: ER12-1444-000.

Applicants: Buckeye Power, Inc.

Description: Cancellation of Mone Generating Plant Tariff Filing to be effective 4/4/2012.

Filed Date: 4/4/12.

Accession Number: 20120404-5147.

Comments Due: 5 p.m. ET 4/25/12.

Take notice that the Commission received the following public utility holding company filings:

Docket Numbers: PH12-9-000.

Applicants: Alinda Capital Partners I Ltd.

Description: FERC 65A Exemption Notification of Alinda Capital Partners I Ltd.

Filed Date: 4/4/12.

Accession Number: 20120404-5045.

Comments Due: 5 p.m. ET 4/25/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2012.
Nathaniel J. Davis, Sr.,
Deputy Secretary.

[FR Doc. 2012-8690 Filed 4-10-12; 8:45 am]

BILLING CODE 6717-01-P